Title 3—

The President

Executive Order 13283 of January 21, 2003

Establishing the Office of Global Communications

By the authority vested in me as President by the Constitution and the laws of the United States of America, it is hereby ordered as follows:

Section 1. Establishment of the Office of Global Communications. There is hereby established within the White House Office an Office of Global Communications (the “Office”) to be headed by a Deputy Assistant to the President for Global Communications.

Sec. 2. Mission. The mission of the Office shall be to advise the President, the heads of appropriate offices within the Executive Office of the President, and the heads of executive departments and agencies (agencies) on utilization of the most effective means for the United States Government to ensure consistency in messages that will promote the interests of the United States abroad, prevent misunderstanding, build support for and among coalition partners of the United States, and inform international audiences. The Office shall provide such advice on activities in which the role of the United States Government is apparent or publicly acknowledged.

Sec. 3. Functions. In carrying out its mission:

(a) The Office shall assess the methods and strategies used by the United States Government (other than special activities as defined in Executive Order 12333 of December 4, 1981) to deliver information to audiences abroad. The Office shall coordinate the formulation among appropriate agencies of messages that reflect the strategic communications framework and priorities of the United States, and shall facilitate the development of a strategy among the appropriate agencies to effectively communicate such messages.

(b) The Office shall work with the policy and communications offices of agencies in developing a strategy for disseminating truthful, accurate, and effective messages about the United States, its Government and policies, and the American people and culture. The Office may, after consulting with the Department of State and obtaining the approval of the Assistant to the President for National Security Affairs on the President's behalf, work with cooperating foreign governments in the development of the strategy. In performing its work, the Office shall coordinate closely and regularly with the Assistant to the President for National Security Affairs, or the Assistant's designee.

(c) The Office shall work with appropriate agencies to coordinate the creation of temporary teams of communicators for short-term placement in areas of high global interest and media attention as determined by the Office. Team members shall include personnel from agencies to the extent permitted by law and subject to the availability of personnel. In performing its functions, each information team shall work to disseminate accurate and timely information about topics of interest to the on-site news media, and assist media personnel in obtaining access to information, individuals, and events that reinforce the strategic communications objectives of the United States and its allies. The Office shall coordinate when and where information teams should be deployed; provided, however, no information team shall be deployed abroad without prior consultation with the Department of State and the Department of Defense, and prior notification to the Office of the Assistant to the President for National Security Affairs.

(d) The Office shall encourage the use of state-of-the-art media and technology and shall advise the United States Government of events, technologies, and other communications tools that may be available for use in conveying information.

Sec. 4. Administration. The Office of Administration within the Executive Office of the President shall provide the Office with administrative and related support, to the extent permitted by law and subject to the availability of appropriations, as directed by the Chief of Staff to the President to carry out the provisions of this order.

Sec. 5. Relationship to Other Interagency Coordinating Mechanisms. Presidential direction regarding National Security Council-related mechanisms for coordination of national security policy shall apply with respect to the Office in the same manner as it applies with respect to other elements of the White House Office. Nothing in this order shall be construed to impair or otherwise affect any function assigned by law or by the President to the National Security Council or to the Assistant to the President for National Security Affairs.

Sec. 6. Continuing Authorities. This order does not alter the existing authorities of any agency. Agencies shall assist the Deputy Assistant to the President for Global Communications, to the extent consistent with applicable law and direction of the President, and to the extent such assistance is consistent with national security objectives and with the mission of such agencies, in carrying out the Office's mission.

Sec. 7. General Provisions.

(a) This order is not intended to, and does not, create any right or benefit, substantive or procedural, enforceable at law or equity by any party against the United States, its agencies, instrumentalities or entities, its officers or employees, or any other person.

(b) Nothing in this order shall be construed to grant to the Office any authority to issue direction to agencies, officers, or employees.

B

THE WHITE HOUSE,

January 21, 2003.

[FR Doc. 03-1798

Filed 1-23-03; 8:45 am]

Billing code 3195-01-P